DEPARTMENT OF THE INTERIOR

Bureau of Indian Affairs

Notice of Intent To Prepare an Environmental Impact Statement for the Proposed Campo Wind Energy Project, San Diego County, CA

AGENCY: Bureau of Indian Affairs, Interior.

ACTION: Notice.

SUMMARY: This notice advises the public that the Bureau of Indian Affairs (BIA) as lead agency, with the Campo Band of Mission Indians (Tribe) as a cooperating agency, intends to gather information necessary for preparing an Environmental Impact Statement (EIS) for the proposed Campo Shu'luuk Wind Project, located on the Campo Indian Reservation in southeastern San Diego County, approximately 60 miles east of San Diego, California. Construction of the Shu'luuk Wind Project within the Campo Reservation is subject to BIA approval of a lease and sublease, which, as proposed, is a major Federal action under the National Environmental Policy Act of 1969 (NEPA), as amended. A brief description of the proposed action and areas of environmental concern are provided below in the SUPPLEMENTARY INFORMATION section. This notice also announces a public scoping meeting to identify potential issues, concerns and alternatives to be considered in the EIS. The scoping process will include notice to the public and Federal, State, local, and Tribal agencies of the proposed action.

DATES: Written comments on the scope and implementation of this proposal must arrive by July 5, 2011. A public scoping meeting will be held June 21, 2011, from 6 p.m. to 9 p.m., or until the last public comment is received. A second public scoping meeting will be held on June 22, 2011, from 6 p.m. to 9 p.m. or until the last public comment is received.

ADDRESSES: You may mail or hand-carry written comments to Robert Eben, Superintendent, Southern California Agency, Bureau of Indian Affairs, 1451 Research Park Drive, Riverside, California 92507. Please include your name, caption, return address and “EIS Scoping Comments, Shu'luuk Wind Project, San Diego County, California,” on the first page of your written comments. The June 21 meeting will be held at the Mountain Empire High School, 3305 Buckman Springs Road, Pine Valley, California. The June 22 meeting will be located at the Campo Indian Reservation Tribal Hall, 36190 Church Road, Campo, California.

FOR FURTHER INFORMATION CONTACT: Lenore Lamb, (951) 276-6624, Ext 254.

SUPPLEMENTARY INFORMATION: BIA approval is required for a lease and sublease to build and operate a commercial wind power generation facility capable of generating up to 250 megawatts (MW) of electricity. The project is planned to be constructed in phases. The initial phase would generate up to 160 MW consisting of up to 80 turbines. The project study area, for all phases, covers approximately 4660 acres on the Campo Indian Reservation. The total area that would be disturbed by the project would be substantially less. The turbines proposed for the project would have a tower hub height of up to 328 feet and a rotor diameter up to approximately 368 feet. Each turbine would be set on a concrete foundation. Turbines would be connected by underground electrical cable to a project substation. The substation would be sited on a 2-acre area and would consist of a graveled, fenced area containing transformer and switching equipment and an area for vehicle parking. Up to 5 miles of new 3-phase 138 kV overhead interconnection transmission circuit would be constructed within the Campo Indian Reservation from the project collector substation to a San Diego Gas & Electric (SDG&E) switchyard. The SDG&E switchyard and related transmission line upgrades will be subject to approval by the California Public Utilities Commission (CPUC) and the BIA. Other required facilities, all located within the Campo Indian Reservation, would include: Up to three permanent meteorological towers; temporary material laydown areas during construction; temporary office areas; an operations and maintenance building; approximately 25 miles of new access roads; and a temporary concrete batch plant. This batch plant would be centrally located within the existing Campo Materials facility off of Church Road. The wind power generation facility would operate year-round for a minimum of 25 years.

The purpose and need for the project are to: (1) Improve the economic conditions of the Campo Band through the lease revenue and job creation from development of wind power generation on the Campo Reservation utilizing the renewable resource (wind) that is found in abundance on the Campo Reservation; (2) make use of the Campo Reservation's wind energy resources in an environmentally sound manner to meet existing and future electricity demands to power approximately 40,000 homes in the Southern California region; (3) provide for renewable energy sources as encouraged by the Federal Energy Policy Act of 2005, California's Global Warming Solutions Act (AB 32), and the State's renewable portfolio standard that mandates utilities to increase procurement from eligible renewable energy resources; and (4) reduce carbon dioxide emissions that would otherwise be emitted from fossil fuel powered electric generation sources by as much as 250,000 tons per year.

The EIS will analyze the potential environmental impacts of the construction and operation of a proposed wind generation facility, including access roads, a collector substation, as well as a switchyard and transmission facilities that have previously been analyzed at the programmatic level in the Draft Environmental Impact Report/Environmental Impact Statement for the East County Substation, Tule Wind, and Energia Sierra Juarez Gen-Tie Project (DOI Control No. DES 10-62). The EIS will be prepared in accordance with NEPA (42 U.S.C. 4321); the Council on Environmental Quality (CEQ) regulations (40 CFR parts 1500-1508); Department of the Interior regulations (43 CFR part 46); and the BIA NEPA Handbook (59 IAM 3-H). A reasonable range of alternatives to the proposed action including a no-action alternative, will be analyzed in the EIS. The range of issues and alternatives may be expanded based on comments and information received during the scoping process. This notice initiates the public scoping process to identify alternatives and relevant issues associated with the proposed project.

Areas of environmental concern to be addressed in the EIS include land use, wildlife (including birds and bats); vegetation (including noxious and invasive weeds); threatened, endangered, and sensitive plants and animals (including the Quino checkerspot butterfly); visual resources; cultural resources; water quality; air quality (including climate change); noise; emergency services (including fire management and suppression); public health/environmental hazards; traffic and transportation; hazardous waste; environmental justice and socioeconomics.

Public Comment Availability

Comments, including names and addresses of respondents, will be available for public review at the BIA address shown in the ADDRESSES section, during business hours, 8 a.m. to 4:30 p.m., Monday through Friday, except holidays. Individual respondents may request confidentiality. If you wish us to withhold your name and/or address from public review or from disclosure under the Freedom of Information Act, you must state this prominently at the beginning of your written comment. Such requests will be honored to the extent allowed by the law. We will not, however, consider anonymous comments. All submissions from organizations or businesses, and from individuals identifying themselves as representatives or officials of organizations or businesses, will be made available for public inspection in their entirety.

Authority

This notice is published in accordance with sections 1501.7, 1506.6 and 1508.22 of the Council of Environmental Quality Regulations (40 CFR parts 1500 through 1508) and Sec. 46.305 of the Department of Interior Regulations (43 CFR part 46), implementing the procedural requirements of the NEPA of 1969, as amended (42 U.S.C. 4371 et seq.), and is in the exercise of authority delegated to the Assistant Secretary—Indian Affairs by 209 DM 8.

Dated: May 3, 2011.
Donald Laverdure,
Principal Deputy Assistant Secretary—Indian Affairs.

[FR Doc. 2011-12416 Filed 5-19-11; 8:45 am]

BILLING CODE 4310-W7-P